DEPARTMENT OF HEALTH AND HUMAN SERVICES

National Institutes of Health

National Heart, Lung, and Blood Institute; Amended Notice of Meeting

Notice is hereby given of a change in the meeting of the National Heart, Lung, and Blood Advisory Council, June 08, 2021, 10:00 a.m. to June 08, 2021, 05:00 p.m., NIH, Rockledge 1, 6705 Rockledge Dr, Bethesda, MD 20892 which was published n the Federal Register on May 05, 2021, 294922.

The notice is amended to change the time of the meeting's public portion to 12:00 p.m. through 5:00 p.m. The meeting is partially closed to the public.

Dated: May 19, 2021.
David W. Freeman,
Program Analyst, Office of Federal Advisory Committee Policy.

[FR Doc. 2021-10894 Filed 5-21-21; 8:45 am]

BILLING CODE 4140-01-P